SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: May 1-June 30, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Water Source Approvals Issued Under 18 CFR 806.22(f)(13):

1. Repsol Oil & Gas USA, LLC.; Pad ID: ALEXANDER (01 124); ABR-201905003; Armenia Township, Bradford County, Pa.; Consumptive Use of Up to 6.0000 mgd; Approval Date: May 9, 2019.

2. Chesapeake Appalachia, L.L.C.; Pad ID: Benscoter; ABR-20090601.R2; Auburn Township, Susquehanna County, Pa.; Consumptive Use of Up to 7.5000 mgd; Approval Date: June 3, 2019.

3. Chesapeake Appalachia, L.L.C.; Pad ID: Strom; ABR-20090602.R2; Monroe Township, Bradford County, Pa.; Consumptive Use of Up to 7.5000 mgd; Approval Date: June 3, 2019.

4. Chesapeake Appalachia, L.L.C.; Pad ID: Evanchick; ABR-20090604.R2; Asylum Township, Bradford County, Pa.; Consumptive Use of Up to 7.5000 mgd; Approval Date: June 3, 2019.

5. Chesapeake Appalachia, L.L.C.; Pad ID: Vargson; ABR-20090605.R2; Granville Township, Bradford County, Pa.; Consumptive Use of Up to 7.5000 mgd; Approval Date: June 3, 2019.

6. Chief Oil & Gas, LLC.; Pad ID: Baumunk North B Drilling Pad; ABR-201406004.R1; Fox Township, Sullivan County, Pa.; Consumptive Use of Up to 2.5000 mgd; Approval Date: June 4, 2019.

7. Chief Oil & Gas, LLC.; Pad ID: Wissler Drilling Pad; ABR-201406005.R1; McNett Township, Lycoming County, Pa.; Consumptive Use of Up to 2.5000 mgd; Approval Date: June 4, 2019.

8. Chief Oil & Gas, LLC.; Pad ID: IDC-INNES UNIT PAD; ABR-201906004; Fox Township, Sullivan County, Pa.; Consumptive Use of Up to 2.5000 mgd; Approval Date: June 7, 2019.

9. Seneca Resources Company, LLC; Pad ID: Gamble Pad G; ABR-201906005; Gamble Township, Lycoming County, Pa.; Consumptive Use of Up to 4.0000 mgd; Approval Date: June 7, 2019.

10. Repsol Oil & Gas USA, LLC; Pad ID: SHEDDEN (01 013/043) D; ABR-20090603.R2; Troy Township, Bradford County, Pa.; Consumptive Use of Up to 3.0000 mgd; Approval Date: June 10, 2019.

11. Chief Oil & Gas, LLC.; Pad ID: SGL 12 O Pad; ABR-2019006002; Franklin Township, Bradford County, Pa.; Consumptive Use of Up to 2.5000 mgd; Approval Date: June 11, 2019.

12. Seneca Resources Company, LLC; Pad ID: CRV D08-Pad G; ABR-201406007.R1; Norwich Township, McKean County, Pa.; Consumptive Use of Up to 4.0000 mgd; Approval Date: June 13, 2019.

13. Chief Oil & Gas, LLC.; Pad ID: Clark Drilling Pad; ABR-201406008.R1; Springville Township, Susquehanna County, Pa.; Consumptive Use of Up to 2.5000 mgd; Approval Date: June 13, 2019.

14. Repsol Oil & Gas USA, LLC; Pad ID: WARNER (05 121) W; ABR-201906001; Rush Township, Susquehanna County, Pa.; Consumptive Use of Up to 6.0000 mgd; Approval Date: June 17, 2019.

15. Chesapeake Appalachia, L.L.C.; Pad ID: MTL; ABR-201906003; Wyalusing Township, Bradford County, Pa.; Consumptive Use of Up to 7.5000 mgd; Approval Date: June 17, 2019.

16. ARD Operating, LLC; Pad ID: C.O.P. Tract 285 (1000); ABR-20190406.R2; Grugan Township, Clinton County, Pa.; Consumptive Use of Up to 5.0000 mgd; Approval Date: June 17, 2019.

17. Repsol Oil & Gas USA, LLC; DCNR 587 (02 001); ABR-20090609.R2; Ward Township, Tioga County, Pa.; Consumptive Use of Up to 3.0000 mgd; Approval Date: June 17, 2019.

18. ARD Operating, LLC; Pad ID: COP Tract 285 (1001H, 1002H); ABR-20190413.R2; Grugan Township, Clinton County, Pa.; Consumptive Use of Up to 5.0000 mgd; Approval Date: June 17, 2019.

19. ARD Operating, LLC; Pad ID: COP Tr 252 #1000H; ABR-20190444.R2; Grugan Township, Clinton County, Pa.; Consumptive Use of Up to 5.0000 mgd; Approval Date: June 17, 2019.

20. Chesapeake Appalachia, L.L.C.; Pad ID: Welles 1; ABR-20090610.R2; Terry Township, Bradford County, Pa.; Consumptive Use of Up to 7.5000 mgd; Approval Date: June 18, 2019.

21. Chief Oil & Gas, LLC; Pad ID: Czop Drilling Pad; ABR-201406009.R1; Fox Township, Sullivan County, Pa.; Consumptive Use of Up to 2.5000 mgd; Approval Date: June 19, 2019.

22. Repsol Oil & Gas USA, LLC; Pad ID: WILLIAMS (01 041/042) R; ABR-20090611.R2; Rush Township, Susquehanna County, Pa.; Consumptive Use of Up to 3.0000 mgd; Approval Date: June 24, 2019.

23. Seneca Resources Company, LLC; Pad ID: CRV Pad C08-X; ABR-201406010.R1; Shippen Township, Cameron County, Pa.; Consumptive Use of Up to 4.0000 mgd; Approval Date: June 26, 2019.

Authority: Pub. L. 91-575, 84 Stat. 1509 et seq., 18 CFR parts 806 and 808.

Dated: August 1, 2019.
Jason E. Oyler,
General Counsel and Secretary to the Commission.

[FR Doc. 2019-16817 Filed 8-6-19; 8:45 am]

BILLING CODE 7040-01-P